DEPARTMENT OF AGRICULTURE

Office of the Secretary

Meeting Notice of the National Agricultural Research, Extension, Education, and Economics Advisory Board

AGENCY: Research, Education, and Economics, USDA.

ACTION: Notice of public meeting.

SUMMARY: In accordance with the Federal Advisory Committee Act, section 1408 of the National Agricultural Research, Extension, and Teaching Policy Act of 1977, and the Agriculture Improvement Act of 2018, the United States Department of Agriculture (USDA) announces a meeting of the National Agricultural Research, Extension, Education, and Economics (NAREEE) Advisory Board.

DATES: The NAREEE Advisory Board will meet in person on June 6-7, 2023.

Public Participation/Oral Comments: This meeting is open to the public. Interested individuals may participate in-person or virtually. To attend the meeting via Zoom and/or make oral comments, you must contact Ms. Michele Simmons at email: nareee@usda.gov at least 5 business days prior to the meeting (no later than May 30, 2023).

Written Comments: The public may file written comments no later than May 30, 2023. Written comments from the public may be submitted via email at nareee@usda.gov to the attention of Ms. Michele Simmons.

All statements will become a part of the official record of the NAREEE Advisory Board and will be kept on file for public review in the NAREEE Advisory Board's Office. Written comments by attendees and other interested stakeholders will be welcomed for the public record before and up to two weeks following the Board meeting (no later than 5 p.m. eastern standard time on Wednesday, June 21, 2023).

ADDRESSES: The meeting location on June 6, 2023: USDA Whitten Building, 1400 Independence Ave. SW, Room 107-A, Washington, DC 20250. The meeting location on June 7, 2023: USDA, Yates Building, 201 14th Street SW, Room 2SC01, Washington, DC 20250.

FOR FURTHER INFORMATION CONTACT: Ms. Kate Lewis, Executive Director/Designated Federal Official, or Ms. Michele Simmons, Program Support Coordinator, National Agricultural Research, Extension, Education, and Economics Advisory Board; telephone: (202) 579-6610 or email: nareee@usda.gov.

SUPPLEMENTARY INFORMATION:

Purpose of the meeting: The Board will meet to provide advice and recommendations on the top priorities and policies for food and agricultural research, education, extension, and economics. The main focus of this meeting will be to receive updates from the REE Under Secretary and the leadership from the REE agencies; discuss the Board's plan for their annual Relevancy and Adequacy (R&A) assessment of REE's main science and research priorities; and hear updates from the Board's committees and subcommittees.

An agenda for this two-day meeting may be received by sending an email to the attention of Ms. Michele Simmons @nareee@usda.gov

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

Equal opportunity practices in accordance with USDA's policies will be followed in all appointments to the Committee. To ensure that the recommendations of the Committee have taken in account the needs of the diverse groups served by USDA, membership shall include to the extent possible, individuals with demonstrated ability to represent minorities, women and person with disabilities. USDA is an equal opportunity provider, employer, and lender.

Dated: May 16, 2023.
Cikena Reid,
USDA Committee Management Officer.

[FR Doc. 2023-10727 Filed 5-18-23; 8:45 am]

BILLING CODE 3410-03-P